EXPORT-IMPORT BANK OF THE UNITED STATES

Economic Impact Policy

This notice is to inform the public that the Export-Import Bank of the United States has received an application to finance the export of approximately $430 million in U.S. equipment and services to a petroleum refinery and petrochemicals facility in India. The U.S. exports will enable the facility to produce approximately 3 million metric tons of petroleum coke (petcoke), 600 thousand metric tons of sulfur and 900 thousand metric tons of polypropylene. Initial production at this facility is expected to commence in 2008.

Available information indicates that the petcoke and sulfur will be consumed primarily in India; however during the initial years of production, limited amounts of petcoke may be sold to buyers in Asian markets. The polypropylene will be consumed in Asia, Europe and the Middle East. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. E6-17156 Filed 10-16-06; 8:45 am]

BILLING CODE 6690-01-P